NATIONAL SCIENCE FOUNDATION

Notice of Intent To Seek Approval To Establish an Information Collection

AGENCY: National Science Foundation.

ACTION: Notice and request for comments.

SUMMARY: Under the Paperwork Reduction Act of 1995, and as part of its continuing effort to reduce paperwork and respondent burden, the National Science Foundation (NSF) is inviting the general public or other Federal agencies to comment on this proposed continuing information collection.

DATES: Written comments on this notice must be received by December 12, 2023, to be assured consideration. Comments received after that date will be considered to the extent practicable. Send comments to address below.

FOR FURTHER INFORMATION CONTACT: Suzanne H. Plimpton, Reports Clearance Officer, National Science Foundation, 2415 Eisenhower Avenue, Suite E7400, Alexandria, Virginia 22314; telephone (703) 292-7556; or send email to splimpto@nsf.gov. Individuals who use a telecommunications device for the deaf (TDD) may call the Federal Information Relay Service (FIRS) at 1-800-877-8339, which is accessible 24 hours a day, 7 days a week, 365 days a year (including federal holidays).

SUPPLEMENTARY INFORMATION:

Comments: Comments are invited on: (a) whether the proposed collection of information is necessary for the proper performance of the functions of the Foundation, including whether the information will have practical utility; (b) the accuracy of the Foundation's estimate of the burden of the proposed collection of information; (c) ways to enhance the quality, utility, and clarity of the information to be collected; and (d) ways to minimize the burden of the collection of information on those who are to respond, including through the use of automated collection techniques or other forms of information technology.

Title of Collection: NSF's Safe and Inclusive Fieldwork (SAIF) Pilot in Biological Sciences (BIO) and Geosciences (GEO) PI Survey.

OMB Number: 3145-NEW.

Expiration Date of Approval: Not applicable.

Type of Request: Intent to seek approval to establish an information collection.

Abstract: The National Science Foundation (NSF) on 8 February 2018, in Important Notice No. 144 (8 Feb 2018) to Presidents of Universities and Colleges and Heads of Other National Science Foundation Grantee Organizations, emphasized that the agency does not tolerate sexual harassment, or any kind of harassment, anywhere NSF-funded science and education are conducted. The memo elaborated that the NSF is committed to “. . . promoting safe, productive research and education environments . . . ,” including those outside the organization, such as at field sites or facilities. Two NSF-wide policy changes quickly followed the memo to make clear that the agency was committed to safe research and learning environments. The first was a new Term and Condition that required awardee organizations to notify the NSF of any findings/determinations of sexual harassment, other forms of harassment, or sexual assault regarding an NSF funded Principal Investigator (PI) or co-PI, or of the placement of the PI or co-PI on administrative leave, or the imposition of any administrative action relating to harassment or sexual assault finding or investigator. The second was a new requirement for all NSF supported conferences to have a policy or code-of-conduct that addresses sexual harassment, other forms of harassment, and sexual assault, and that includes clear and accessible means of reporting violations of the policy or code-of-conduct. Proposers were not, however, required to submit that policy or code-of-conduct for review. Additional policy changes have since followed, including this year (as of 30 January 2023) when all organizations submitting proposals to the NSF with off-site or off-campus research (i.e., fieldwork) were henceforth required to certify that they have a proposal-specific plan in place for safe and inclusive research (Chapter II.E.9 of the Proposal and Award Policy and Procedures Guide); however, the plan itself is not required to be submitted to the NSF or subject to review.

Two of the NSF directorates [Biological Sciences (BIO) and Geosciences (GEO)] fund disproportinately large numbers of awards to researchers with significant fieldwork components, and because fieldwork is known to be particularly risky with respect to safety and inclusion (e.g., Clancy et al. 2014, Nelson et al. 2017, John and Khan 2018, Giles et al. 2020), BIO and GEO initiated a pilot program to require Principal Investigators (PIs) of submitted projects involving fieldwork to include a 2-page Supplementary Document summarizing how the project team would ensure a safe and inclusive working environment for all associated personnel. This plan is called the Safe and Inclusive Fieldwork (SAIF) Plan and is required for several solicitations in BIO and GEO, but not all. Importantly the SAIF Plans are subject to merit review as part of the NSF Broader Impacts criterion.

Recent research has repeatedly demonstrated that fieldwork can be especially challenging, and uniquely so, with respect to inclusion (e.g., Demery and Pipkin 2020, Marin-Spiotta et al. 2020, O'Brien et al. 2020, Ramirez-Castaneda et al. 2022; Yarincik et al. 2023), and without inclusion, attrition from the STEM workforce is accelerated (NASEM 2018, 2019). To ensure that the United States leads the world in discovery and innovation, it is critical to broaden participation and empower all STEM talent to fully participate in science, and in fact this is one of NSF's top stragegic goals (NSF 2022-2026 Strategic Plan), along with the corresponding strategic objective—to ensure accessibility and inclusivity. In addition, broadening participation/inclusion is a key component of NSF's Broader Impacts review criterion.

Because research proposals with fieldwork are common at the NSF, especially in BIO and GEO, the SAIF Pilot aims to (a) empower those scientific communities to develop promising practices and strategies to ensure safe and inclusive working environments, (b) collect and analyze the diversity of approaches used, and (c) speed culture change beyond what is accomplished by compliance (e.g., NASEM 2018). For solicitations participating in the SAIF Pilot, SAIF Plans will be associated directly with each submitted NSF proposal and subject to merit review. The lead PI of a submitted project that includes any off-campus or off-site research (i.e., fieldwork) must (a) describe the unique challenges for their teams; (b) provide information on the steps that will be taken to nurture an inclusive environment; (c) outline the communication processes within the field team and the organization, and (d) list the organizational mechanisms to be used for reporting, responding to, and resolving issues of harassment if they arise. All of these steps are based on best practices from the literature (see Yarnick et al. 2023).

For all of the aforementioned reasons, the NSF BIO and GEO Directorates request the Office of Management and Budget (OMB) approval of this clearance to aid in the evaluation of NSF's Safe and Inclusive Fieldwork (SAIF) Pilot. The approval would cover PI surveys and interviews as described below.

—PI Survey. We seek approval to conduct a web-based survey of Principal Investigators (PIs) who have submitted proposals to the solicitations participating in the SAIF Pilot. The PI survey is to assess key information on the preparation of the plans (e.g., time and resources) and whether the NSF review criteria are clear. The survey data will help to enable the NSF to better assess the value of requiring PIs with proposals that have off-campus or off-site research (i.e., fieldwork) to include SAIF Plans as a Supplementary Document subject to merit review, in lieu of the PAPPG NSF 23-1 Chapter II.E.9 requirement that requires only that the AOR certify that the organization has a plan in place for safe and inclusive research but does not submit that plan to the NSF for review.

—Interviews with PIs who have submitted and/or reviewed SAIF Plans. Interviews with PIs who have submitted proposals to solicitations participating in the SAIF Pilot, and/or have reviewed proposals that have included a SAIF Plan, are important to provide in-depth information about specific topics of interest to NSF (e.g., institutional support for the creation of the SAIF Plans; details on process and implementation; perceptions of value; etc.). The interviews will be conducted using a virtual meeting platform at a time convenient for the participants. An added purpose is to corroborate findings obtained through the PI surveys and to dive more deeply on selected areas that are of interest to BIO and GEO staff and other stakeholders.

This data collection is necessary to provide NSF with timely and actionable information about the preparation, common strategies and activities, organizational involvement, clarity and value of merit review, and outcomes associated with SAIF Plans. We note that the U.S. Department of Energy now requires Promoting Inclusive and Equitable Research (PIER) Plans for every submission, regardless of whether the work is on- or off-campus. An early assessment of the NSF BIO and GEO SAIF Pilot will be important for understanding the (1) administrative burden required to write and review SAIF Plans, (2) their perceived value, and (3) promising strategies to creating safe and inclusive working environments.

Use of the Information: Aggregate results from the survey and interviews will be summarized in reports. While the individual survey and interview responses will be identifiable to NSF staff, no information about individuals participating in the surveys and interviews will be released to anyone outside of the NSF. The data collected and reported on will be used for planning, management, and evaluation purposes only. These data are needed for effective evaluation and for measuring attainment of NSF's program and strategic goals, as identified by the President's Accountable Government Initiative, the Government Performance and Results Act Modernization Act of 2010, Evidence-Based Policymaking Act of 2018, and NSF's Strategic Plan.

Expected Respondents: The respondents are either Principal Investigators (PIs) and/or other key personnel (e.g., coPIs) on grants submitted to programs participating in the SAIF Pilot. As a control, and as a way to gather information on the views of PIs to the new PAPPG NSF 23-1 Chapter II.E.9 requirement, PIs submitting to solicitations in BIO and GEO that do not require SAIF Plans will also be included. The numbers of PIs who are likely to respond to the survey are estimated below under Estimate of Burden. The interviews will be a random subset of PIs.

Estimate of Burden

Estimates of Annualized Cost to Respondents for the Hour Burdens

The overall annualized cost to the respondents is estimated to be $21,712. The following table shows the estimated burden and costs to respondents, who are PIs or coPIs of NSF proposals to the BIO and GEO directorates. This estimated hourly rate is based on a report from the Bureau of Labor Statistics' Occupational Employment and Wages, May 2022.¹ According to this report, the mean hourly rate is $46.38 for biological scientists (code 191020), and $42.96 for geoscientists (code 192040). We used $46 as the amount to calculate burden. Estimated numbers are based on FY22 # of submissions to each of the participating solicitations and then estimating the % with field work for each solicitation, using advice from Program Officers familiar with each program.

¹ https://www.bls.gov/oes/current/oes251021.htm.

Directorate | Solicitation | Number of submitters in FY22 | % with fieldwork | ~# PIs with fieldwork | Burden hours per respondent | Total hour burden | Estimated annual cost
BIO | 23-580 | 147 | 7 | 10 | .5 | 5.2 | 237
BIO | 23-578 | 84 | 7 | 6 | .5 | 2.9 | 135
BIO | 23-547 | 444 | 40 | 178 | .5 | 88.8 | 4,085
BIO | 23-559 | 98 | 50 | 49 | .5 | 24.5 | 1,127
BIO | 23-548 | 394 | 5 | 197 | .5 | 98.5 | 4,531
BIO | 23-542 | 109 | 100 | 109 | .5 | 54.5 | 2,507
BIO | 23-549 | 318 | 75 | 239 | .5 | 119.3 | 5,486
GEO | 23-572 | 211 | 67 | 141 | .5 | 70.7 | 3,252
GEO | 23-540 | 14 | 75 | 11 | .5 | 5.3 | 242
GEO | 23-539 | 16 | 30 | 5 | .5 | 2.4 | 110

Estimated Number of Responses (given ~85% response rate) for PI Survey: We will survey approximately 800 individuals, given the information in the table above, which includes the estimated number of submissions to each of the solicitations in the SAIF Pilot, and the % of those proposals with fieldwork.

Estimated Number of PI Interviews: We will interview approximately 70 individuals, with sampling aross all of the solicitations participating in the SAIF Pilot.

Dated: October 10, 2023.
Suzanne H. Plimpton,
Reports Clearance Officer, National Science Foundation.

Citations

Clancy, K.B., H., R.G. Nelson, J.N. Rutherford, and K. Hinde. 2014. Survey of academic field experiences (SAFE): Trainees report harassment and assault. PLoS ONE 9:e102172.

Demery, A.C., and M.A. Pipkin. 2021. Safe fieldwork strategies for at-risk individuals, their supervisors and institutions. Nature Ecology and Evolution 5:5-9.

Giles, S., C. Jackson, and N. Stephen. 2020. Barriers to fieldwork in undergraduate geology degrees. Nature Reviews Earth & Environment 1:77-78. https://doi.org/10.1038/s43017-020-0022-5.

John, C.M., and S.B. Khan. 2018. Mental health in the field. Nature Geoscience 11:618-620.

Marin-Spiotta, E., R.T. Barnes, A.A. Berhe, M.G. Hastings, A. Mattheis, B. Schneider, and B.M. Williams. 2020. Hostile climates are barriers to diversifying the geosciences. Advances in Geosciences 53:117-127. https://doi.org/10.5194/adgeo-53-117-2020.

National Academies of Sciences, Engineering, and Medicine. 2018. Sexual harassment of women: Climate, culture, and consequences in academic sciences, engineering, and medicine. The National Academies Press. https://doi.org/10.17226/24994.

National Academies of Sciences, Engineering, and Medicine. 2019. The science of effective mentorship in STEMM. The National Academies Press. https://doi.org/10.17226/25568.

Nelson, R.G., et al. 2017. Signaling safety: Characterizing fieldwork experiences and their implications for career trajectories. American Anthropologist 119:710-722.

O'Brien, L.T., H.L. Bart, and D.M. Garcia. 2020. Why are there so few ethnic minorities in ecology and evolutionary biology? Challenges to inclusion and the role of sense of belonging. Social Psychology of Education 23:449-477.

Ramirez-Castaneda, V., E.P. Westeen, J. Frederick, et al. (+30) 2022. A set of principles and practical suggestions for equitable fieldwork in biology. Proceedings of the National Academy of Sciences 119e:2122667119. https://doi.org/10.1073/pnas.2122667119.

Yarincik, K., A. Kelly, T. McGlynn, R.M. Verble. 2023. Best practices to promote field science safety. Integrative and Comparative Biology 63:145-161.

[FR Doc. 2023-22679 Filed 10-12-23; 8:45 am]

BILLING CODE 7555-01-P